DEPARTMENT OF VETERANS AFFAIRS

[OMB Control No. 2900-0394]

Agency Information Collection Activity Under OMB Review: Certification of School Attendance—REPS

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0394”.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0394” in any correspondence.

SUPPLEMENTARY INFORMATION:

Authority: 38 U.S.C. 5101.

Title: Certification of School Attendance—REPS, 21P-8926.

OMB Control Number: 2900-0394.

Type of Review: Extension of a currently approved collection.

Abstract: VA Form 21P-0826 is primarily used to gather necessary information to determine a claimant's continued eligibility for REPS benefits. The information on the form is necessary to determine if the claimant is enrolled full-time in an approved school and are otherwise eligible under the REPS eligibility criteria. Without this information, determination of continued entitlement would not be possible. This is an extension with no substantive changes to the form. There has been no burden change since the last approval.

An agency may not conduct or sponsor, and a person is not required to respond to a collection of information unless it displays a currently valid OMB control number. The Federal Register Notice with a 60-day comment period soliciting comments on this collection of information was published at 89 FR 1147 on Tuesday, January 9, 2024, pages 1147 and 1148.

Affected Public: Individuals or households.

Estimated Annual Burden: 300 hours.

Estimated Average Burden per Respondent: 15 minutes.

Frequency of Response: One time.

Estimated Number of Respondents: 1,200.

By direction of the Secretary.
Maribel Aponte,
VA PRA Clearance Officer, Office of Enterprise and Integration, Data Governance Analytics, Department of Veterans Affairs.

[FR Doc. 2024-05627 Filed 3-15-24; 8:45 am]

BILLING CODE 8320-01-P